ENVIRONMENTAL PROTECTION AGENCY

40 CFR Part 70

[NV117b-OPP; FRL-7795-7]

Approval and Promulgation of Operating Permits Program; State of Nevada, Clark County Department of Air Quality Management

AGENCY: Environmental Protection Agency (EPA).

ACTION: Proposed rule.

SUMMARY: EPA is proposing to approve a revision to the Clark County Department of Air Quality Management (DAQM) Operating Permits (Title V) Program. Under authority of the Clean Air Act as amended in 1990 (CAA or the Act), we are approving a rule revision that addresses when a timely application for title V permit renewal must be submitted.

DATES: Any comments on this proposal must arrive by September 1, 2004.

ADDRESSES: Send comments to Gerardo Rios, Permits Office Chief (AIR-3), U.S. Environmental Protection Agency, Region IX, 75 Hawthorne Street, San Francisco, CA 94105-3901 or e-mail to rios.gerardo@epa.gov. Comments may also be submitted at http://www.regulations.gov.

You can inspect a copy of the submitted Title V program revision and public comments at our Region IX office during normal business hours by appointment. You may also see copies of the submitted title V program revision by appointment at the following locations: Nevada Division of Environmental Protection, 333 W. Nye Lane, Room 138, Carson City, Nevada; Clark County Department of Air Quality Management, 500 S. Grand Central Parkway, Las Vegas, Nevada 89155. A copy of the rule may also be available via the Internet at http://www.co.clark.nv.us/air_quality/regs.htm. Please be advised that this is not an EPA website and may not contain the same version of the rule that was submitted to EPA.

FOR FURTHER INFORMATION CONTACT: Roger Kohn, EPA Region IX, (415) 972-3973, or kohn.roger@epa.gov.

SUPPLEMENTARY INFORMATION: This proposal addresses the following local rule: DAQM Section 19. In the Rules and Regulations section of this Federal Register, we are approving this Title V program revision in a direct final action without prior proposal because we believe it is not controversial. If we receive adverse comments, however, we will publish a timely withdrawal of the direct final rule and address the comments in subsequent action based on this proposed rule.

We do not plan to open a second comment period, so anyone interested in commenting should do so at this time. If we do not receive adverse comments, no further activity is planned. For further information, please see the direct final action.

Dated: July 16, 2004.
Keith Takata,
Acting Regional Administrator, Region IX.

[FR Doc. 04-17498 Filed 7-30-04; 8:45 am]

BILLING CODE 6560-50-P